DEPARTMENT OF ENERGY

Federal Energy Regulatory Commission

[Project Nos. 2417-067, 2711-025]

Northern States Power Company; Notice Soliciting Scoping Comments

Take notice that the following hydroelectric applications have been filed with the Commission and are available for public inspection.

a. Type of Applications: Subsequent Minor Licenses.

b. Project Nos.: P-2417-067 and P-2711-025.

c. Date filed: November 30, 2023.

d. Applicant: Northern States Power Company (Northern States Power).

e. Name of Projects: Hayward Hydroelectric Project (Hayward Project) (P-2417-067) and Trego Hydroelectric Project (Trego Project) (P-2711-025).

f. Locations: The Hayward Project is located on the Namekagon River in the City of Hayward in Sawyer County, Wisconsin. The project is located on the Namekagon River in the City of Trego in Washburn County, Wisconsin.

g. Filed Pursuant to: Federal Power Act 16 U.S.C. 791 (a)-825(r)

h. Applicants Contact: Donald Hartinger, Director of Renewable Operation-Hydro, Xcel Energy, 414 Nicollet Mall, 2, Minneapolis, MN 55401; phone (651) 261-7668; or Matthew Miller, Environmental Analyst, Xcel Energy, 1414 W Hamilton Ave., P.O. Box 8, Eau Claire, WI 54702-0008; phone 715-737-1353.

i. FERC Contact: Laura Washington (202) 502-6072, Laura.Washington@ferc.gov.

j. Deadline for filing scoping comments: July 24, 2025 by 5 p.m. Eastern Time.

The Commission strongly encourages electronic filing. Please file motions to intervene and protests and requests for cooperating status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Hayward Hydroelectric Project (P-2417-067) and/or Trego Hydroelectric Project (P-2711-025).

The Commission's Rules of Practice require all intervenors filing documents with the Commission to serve a copy of that document on each person on the official service list for each project. Further, if an intervenor files comments or documents with the Commission relating to the merits of an issue that may affect the responsibilities of a particular resource agency, they must also serve a copy of the document on that resource agency.

k. The applications are not ready for environmental analysis at this time.

l. Project Description: The Hayward Project consists of the following existing facilities: (1) a 246.9-acre reservoir; (2) a 442-foot-long the concrete overflow dam; (3) a 18-foot-wide, 24-foot long powerhouse with intake channel containing one S. Morgan Smith vertical Francis-Type turbine with a total installed capacity of 0.168 megawatts; (4) a tailrace; (5) a 150-foot-long underground transmission line.

The Trego Project consists of the following existing facilities: (1) a 435.2-acre reservoir; (2) a 642-foot-long, 43.5-foot-high concrete dam; (3) a 59.5-foot-long, 74-feet-high powerhouse containing two James Leffel Company vertical Francis-type turbines with a total generating capacity of 1.2 megawatts; (4) a tailwater; and (5) a 49-foot-long transmission line.

Northern States Power is not proposing any changes to project facilities or operation.

m. The applications can be viewed on the Commission's website at https://www.ferc.gov using the “eLibrary” link. Enter each project's docket number, excluding the last three digits in the docket number field to access the document (P-2417-067 or P-2711-025). For assistance, contact FERC Online Support at FERCOnlineSupport@ferc.gov, or call (866) 208-3676 (toll-free) or (202) 502 8659 (TTY).

You may also register online at http://www.ferc.gov/docs-filing/esubscription.asp to be notified via email of new filings and issuances related to these or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or OPP@ferc.gov.

o. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued xx.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: June 24, 2025.
Debbie-Anne A. Reese,
Secretary.

[FR Doc. 2025-11968 Filed 6-26-25; 8:45 am]

BILLING CODE 6717-01-P